DEPARTMENT OF TRANSPORTATION

Federal Aviation Administration

14 CFR Part 71

[Docket No. FAA-2011-0496; Airspace Docket No. 11-AWP-6]

Establishment of Class D and Amendment of Class E Airspace; Los Angeles, CA

AGENCY: Federal Aviation Administration (FAA), DOT.

ACTION: Final rule.

SUMMARY: This action establishes Class D airspace at Los Angeles International Airport, Los Angeles, CA. Controlled airspace is necessary to contain potential missed approaches at Los Angeles International Airport. This action enhances the safety and management of aircraft operations at the airport. This action also edits Class E airspace by adding the geographic coordinates and the airport name to the airspace designation.

DATES: Effective date, 0901 UTC, December 15, 2011. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue SW., Renton, WA 98057; telephone (425) 203-4537.

SUPPLEMENTARY INFORMATION:

History

On June 17, 2011, the FAA published in the Federal Register a notice of proposed rulemaking to amend controlled airspace at Los Angeles, CA (76 FR 35369). Interested parties were invited to participate in this rulemaking effort by submitting written comments on the proposal to the FAA. The FAA received four comments.

One commenter had concerns about losing their hang gliding training area. While there is no change to existing hang gliding operations, a Letter of Agreement between Los Angeles Air Traffic Control Tower and hang gliding operators will be initiated once the rule is adopted.

Two commenters are opposed in general to the establishment of Class D airspace adjacent to Los Angeles Class B airspace. As proposed, the Class D design area is intended to minimize the airspace reclassified, yet contain potential operations at Los Angeles International Airport, and is of sufficient size to allow for safe and efficient handling of these operations.

One commenter had several concerns and suggestions; one suggestion was to pursue non-rulemaking alternatives. Two concerns were that published missed approach procedures are not used because they conflict with other aircraft and operations; and alternate missed approach procedures are “ad-hoc” procedures. Firstly, the FAA considered non-rulemaking solutions but found they did not provide the equivalent level of safety as would Class D airspace. Secondly, both standard and alternate missed approach procedures are used as appropriate to ensure the safety of arriving and departing aircraft. Alternate missed approach instructions may be required in addition to published missed approach procedures to ensure that during unplanned missed approaches or unusual traffic situations, aircraft remain safely separated.

The commenter was also concerned that the proposal does not address all Los Angeles International Airport Class B airspace containment issues. The Los Angeles Class B airspace area is currently under review to specifically address aircraft containment issues. The Class D proposal has been designed to address specific safety concerns involving large turbojet aircraft operations in Class E airspace adjacent to Los Angles International Airport. Currently, non-participating aircraft may fly in close proximity to arriving and departing Instrument Flight Rules (IFR) aircraft in this Class E airspace. The establishment of the Los Angeles International Airport Class D airspace area may be incorporated into the future Los Angeles Class B airspace design proposal.

Another concern was frequency congestion. The FAA found that pilot, controller workload and frequency congestion are not impacted by this proposal as all alternate missed approach instructions currently require this communication. Also of concern was that the FAA pursues a full review, including a redesign of the Los Angeles Class B airspace. The FAA agrees that a redesign of the Los Angeles Class B airspace area may provide a unified airspace utilization solution in the Los Angeles Basin. This redesign will be pursued in accordance with Joint Order (JO) 7400.2H, Procedures for Handling Airspace Matters, as part of the ongoing Los Angeles Basin airspace review.

This action also amends Class E airspace to include the airport name and geographic coordinates in the airspace designation. With the exception of editorial changes, this rule is the same as that proposed in the NPRM.

Class D and Class E airspace designations are published in paragraphs 5000 and 6005, respectively, of FAA Order 7400.9V dated August 9, 2011, and effective September 15, 2011, which is incorporated by reference in 14 CFR 71.1. The Class D and Class E airspace designations listed in this document will be published subsequently in that Order.

The Rule

This action amends Title 14 Code of Federal Regulations (14 CFR) Part 71 by establishing Class D airspace at Los Angeles International Airport, Los Angeles, CA, for containment of potential missed approaches at Los Angeles International Airport. This action is based on the results of a study conducted by the Los Angeles VFR Task Force, and the Los Angeles Class B Workgroup. This action further enhances the safety and management of aircraft operations at the airport. This action also amends Class E airspace extending upward from 700 feet above the surface by adding “Los Angeles International Airport, CA” and “lat. 33°56'33” N., long. 118°24'26” W.” to the airspace designation.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes additional controlled airspace at Los Angeles International Airport, Los Angeles, CA.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 7400.9V, Airspace Designations and Reporting Points, dated August 9, 2011, and effective September 15, 2011 is amended as follows:

Paragraph 5000 Class D airspace.

* * * * *

AWP CA D Los Angeles, CA [New]

Los Angeles International Airport, CA

(Lat. 33°56′33″ N., long. 118°24′26″ W.)

Santa Monica Municipal Airport, CA

(Lat. 34°00′57″ N., long. 118°27′05″ W.)

That airspace extending upward from the surface to and including 2,700 feet MSL bounded by a line beginning at lat. 33°57′42″ N., long. 118°27′23″ W.; to lat. 33°58′18″ N., long. 118°26′24″ W.; then via the 2.7-mile radius of the Santa Monica Municipal Airport counterclockwise to lat. 34°00′00″ N., long. 118°24′02″ W.; to lat. 34°00′00″ N., long. 118°22′58″ W.; to lat. 33°57′42″ N., long. 118°22′10″ W., thence to the point of beginning. That airspace extending upward from the surface to and including 2,500 feet MSL bounded by a line beginning at lat. 33°55′50″ N., long. 118°22′06″ W.; to lat. 33°54′16″ N., long. 118°24′17″ W.; to lat. 33°52′47″ N., long. 118°26′22″ W.; to lat. 33°55′51″ N., long. 118°26′05″ W., thence to the point of beginning. This Class D airspace area is effective during the specific dates and times established in advance by a Notice to Airmen. The effective date and time will thereafter be continuously published in the Airport/Facility Directory.

Paragraph 6005 Class E airspace areas extending upward from 700 feet or more above the surface of the earth.

* * * * *

AWP CA E5 Los Angeles, CA [Amended]

Los Angeles International Airport, CA

(Lat. 33°56′33″ N., long. 118°24′26″W.)

That airspace extending upward from 700 feet above the surface bounded by a line beginning at lat. 34°05′00″ N., long. 118°33′03″ W.; to lat. 34°05′00″ N., long. 118°15′03″ W.; to lat. 34°00′00″ N., long. 118°15′03″ W.; to lat. 34°00′00″ N., long. 118°07′03″ W.; to lat. 33°56′00″ N., long. 118°07′03″ W.; to lat. 33°56′00″ N., long. 117°53′03″ W.; to lat. 33°46′00″ N., long. 117°45′03″ W.; to lat. 33°39′00″ N., long. 117°30′03″ W.; to lat. 33°30′00″ N., long. 117°30′03″ W.; to lat. 33°30′00″ N., long. 117°45′03″ W.; to lat. 33°42′00″ N., long. 118°09′03″ W.; to lat. 33°42′00″ N., long. 118°26′03″ W.; to lat. 33°48′00″ N., long. 118°26′03″ W.; to lat. 33°53′00″ N., long. 118°33′03″ W., thence to the point of beginning. That airspace extending upward from 1,200 feet above the surface bounded by a line beginning at lat. 34°00′00″ N., long. 119°05′03″ W.; to lat. 34°00′00″ N., long. 118°33′03″ W.; to lat. 34°05′00″ N., long. 118°33′03″ W.; to lat. 34°05′00″ N., long. 117°59′03″ W.; to lat. 33°56′00″ N., long. 117°59′03″ W.; to lat. 33°56′00″ N., long. 117°53′03″ W.; to lat. 33°46′00″ N., long. 117°45′03″ W.; to lat. 33°39′00″ N., long. 117°30′03″ W.; to lat. 33°30′00″ N., long. 117°30′03″ W.; to lat. 33°30′00″ N., long. 118°34′03″ W.; to lat. 33°28′30″ N., long. 118°34′03″ W.; to lat. 33°28′30″ N., long. 119°07′03″ W.; to lat. 33°52′03″ N., long. 119°07′02″ W., thence to the point of beginning.

Issued in Seattle, Washington, on November 2, 2011.
Robert Henry,
Acting Manager, Operations Support Group, Western Service Center

[FR Doc. 2011-29122 Filed 11-9-11; 8:45 am]

BILLING CODE 4910-13-P